DEPARTMENT OF HOMELAND SECURITY

Office for Civil Rights and Civil Liberties

[DHS-2005-0001]

Submission for New Information Collection, DHS Individual Complaint of Employment Discrimination Form (DHS 3090-1)

AGENCY: Office for Civil Rights and Civil Liberties, DHS.

ACTION: Notice; 30-day notice request for comments.

SUMMARY: The Department of Homeland Security, Office for Civil Rights and Civil Liberties has submitted the following information collection request to the Office of Management and Budget (OMB) for review and clearance in accordance with the Paperwork Reduction Act of 1995. The information collection was previously published in the Federal Register on October 14, 2004 at 69 FR 61033-61034, allowing for a 60-day public comment period. No comments were received by DHS on this information collection. The purpose of this notice is to allow an additional 30 days for public comments.

DATES: Comments are encouraged and will be accepted until February 28, 2005. This process is conducted in accordance with 5 CFR 1320.10

ADDRESSES: Submitting comments: You may submit comments either electronically, or by mail or courier, or you may hand deliver in person. When submitting comments please only choose one of the methods listed below. It is not necessary to submit duplicate sets of comments by using more than one method of submission (i.e., if you submit electronic comments then it is not necessary to submit comments by mail).

When submitting electronic comments you must include Docket No. DHS-2005-0001, and the Agency name, in the subject box.

When submitting comments by mail or courier, or hand delivery, you must include the title of the notice and Docket No. DHS-2005-0001, at the beginning of the correspondence.

Submitting electronic comments: You may submit comments electronically by using one of the methods listed below. All comments received will be posted without change to http://www.epa.gov/feddocket, including any personal information provided.

• EPA Federal Partner EDOCKET Web site: The Department of Homeland Security and its agencies (excluding the United States Coast Guard and Transportation Security Administration) will use the EPA Federal Partner EDOCKET system at http://www.epa.gov/feddocket for submitting electronic comments. Follow instructions on that Web site for submitting electronic comments.

• Federal eRulemaking Portal: You may also submit electronic comments at http://www.regulations.gov. Follow the instructions at that Web site for submitting electronic comments.

Submitting comments by mail, hand delivery or courier:

• Mail: When submitting comments by mail, please send the comments to Office of Management and Budget, Attn: Desk Officer for Homeland Security, Office of Management and Budget, Room 10235, Washington, DC 20503; telephone 202-395-7316. To ensure proper handling, please reference Docket No. DHS-2005-0001 on your correspondence. This mailing address may also be used for submitting comments on paper, disk, or CD-ROM.

• Hand Delivery/Courier: The address for submitting comments by hand delivery or courier is the same as that for submitting comments by mail.

For additional instructions on submitting comments, see the SUPPLEMENTARY INFORMATION section of this document.

Viewing comments: You may view comments and background material at: http://www.epa.gov/feddocket or http://www.regulations.gov.

FOR FURTHER INFORMATION CONTACT: Mary McGoldrick, (202) 772-9921 (this is not a toll free number).

SUPPLEMENTARY INFORMATION:

Request for Comments

The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Department of Homeland Security, Office for Civil Rights and Civil Liberties.

Title: DHS Individual complaint of Employment Discrimination Form (DHS 3090-1).

OMB No.: 1610—NEW.

Frequency: On Occasion.

Affected Public: Federal Government and Individuals or households.

Estimated Number of Respondents: 1,200.

Estimated Time Per Response: 30 minutes per response.

Total Burden Hours: 600.

Total Cost Burden: None.

Description: This form will allow a complainant to submit required information used by the Department to process an employment discrimination complaint with the Department of Homeland Security. The information contained in this form will allow the Department to accept, investigate and further process, or to dismiss issues.

Dated: January 21, 2005.
Steve Cooper,
Chief Information Officer.

[FR Doc. 05-1519 Filed 1-26-05; 8:45 am]

BILLING CODE 4410-10-P